Title 3—

The President

Proclamation 8288

National Employer Support of the Guard And Reserve Week, 2008

By the President of the United States of America

A Proclamation

Throughout history, America has counted on brave individuals willing to put on the uniform to protect our land and defend our way of life. This week we honor and recognize the many contributions members of our National Guard and Reserve make to our Nation, and we thank the civilian employers who support these individuals as they answer the call of duty.

The men and women of the National Guard and Reserve have demonstrated the highest form of citizenship, and their service is vital to the security of our country and the peace of the world. As the early patriots who claimed our Nation's liberty did, today's Guard and Reserve are fighting a new and unprecedented war and pledging their lives and honor to defend our freedom. As many of those early patriots did, members of today's Guard and Reserve lead civilian lives but stand ready to wear our Nation's uniform when liberty is threatened. The families of the National Guard and Reserve serve our Nation by proudly standing behind these brave men and women, and America appreciates their sacrifice as well.

In all they do, the National Guard and Reserve and their families represent the best of the American spirit.

Our Nation also depends on the commitment of the civilian employers of the members of the National Guard and Reserve. In offices and factories across America, organizations do without the talents of many hard-working people who have been called upon to protect our country. Our Nation's employers provide time off, pay, healthcare benefits, and job security because they care about and love their country. These businesses have put patriotism above profit, and they deserve the gratitude of all Americans.

During National Employer Support of the Guard and Reserve Week, a grateful country pays tribute to the men and women of the National Guard and Reserve, and we express our gratitude to the employers who support them and help enable them to serve.

NOW, THEREFORE, I, GEORGE W. BUSH, President of the United States of America, by virtue of the authority vested in me by the Constitution and laws of the United States, do hereby proclaim September 14 through September 20, 2008, as National Employer Support of the Guard and Reserve Week. I encourage all Americans to join me in expressing our thanks to members of our National Guard and Reserve and their civilian employers for their patriotism and sacrifices on behalf of our Nation. I also call upon State and local officials, private organizations, businesses, and all military commanders to observe this week with appropriate ceremonies and activities.

IN WITNESS WHEREOF, I have hereunto set my hand this twelfth day of September, in the year of our Lord two thousand eight, and of the Independence of the United States of America the two hundred and thirty-third.

[FR Doc. E8-21860

Filed 9-16-08; 8:45 am]

Billing code 3195-01-P